DEPARTMENT OF AGRICULTURE

Food and Nutrition Service

Agency Information Collection Activities: Reasons for Under-Redemption of the WIC Cash-Value Benefit

AGENCY: Food and Nutrition Service (FNS), Department of Agriculture (USDA).

ACTION: Notice.

SUMMARY: In accordance with the Paperwork Reduction Act of 1995, this notice invites the general public and other public agencies to comment on this proposed information collection. This collection is a NEW information collection. This study informs the U.S. Department of Agriculture's Food and Nutrition Service (FNS) about the reasons behind under-redemption of the cash-value benefit (CVB) issued to participants in the Special Supplemental Nutrition Program for Women, Infants, and Children (WIC).

DATES: Written comments must be received on or before September 11, 2023.

ADDRESSES: Comments may be sent to Summer Weber, Food and Nutrition Service, U.S. Department of Agriculture, 1320 Braddock Place, Alexandria, VA 22314. Comments may also be submitted via fax to the attention of Summer Weber at 815-319-5697 or via email at summer.weber@usda.gov. Comments will also be accepted through the Federal eRulemaking Portal. Go to https://www.regulations.gov and follow the online instructions for submitting comments electronically.

All responses to this notice will be summarized and included in the request for Office of Management and Budget approval. All comments will be a matter of public record.

FOR FURTHER INFORMATION CONTACT: Requests for additional information or copies of this information collection should be directed to Summer Weber at 815-319-5697 or Summer.Weber@usda.gov.

SUPPLEMENTARY INFORMATION: The American Rescue Plan Act of 2021 (ARP), which was signed into law in March 2021, included provisions allowing the USDA to temporarily increase the Cash Value Voucher/Benefit (CVV/B) for certain food packages through September 30, 2021. This CVB increase was further extended by Congress and is in place for fiscal year (FY) 2023. This increased CVB amount may reduce barriers to full utilization of the benefit. FNS is particularly interested in how State agency policies and practices as well as the temporary benefit increase affects CVB redemption rates.

Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Reasons for Under-Redemption of the WIC Cash-Value Benefit.

Form Number: N/A.

OMB Number: Not yet assigned.

Expiration Date: Not yet determined.

Type of Request: New collection.

Abstract: The Special Supplemental Nutrition Program for Women, Infants, and Children (WIC) provides nutritious supplemental foods, healthcare referrals, breastfeeding support, and nutrition education to low-income pregnant, breastfeeding, and postpartum women, infants and children up to age 5 who are at nutritional risk. A final rule, Special Supplemental Nutrition Program for Women, Infants, and Children (WIC): Revisions in the WIC Food Packages, was published in the Federal Register on March 4, 2014 (79 FR 12274) that revised the WIC food packages to add a monthly cash-value benefit (CVB) for the purchase of fruits and vegetables. This rule also detailed specific provisions for the value of the CVB, the types of fruits and vegetables authorized, and other State options for providing this benefit. Recent studies have estimated that redemption rates for CVBs range from 73 percent to 77 percent; 1 2 however, the reasons for under-redemption of this benefit have not been fully explored. FNS has funded this study to determine the barriers to CVB redemption and the effects of State agency policies, practices, and other factors on CVB redemption rates.

¹ Phillips, D., Bell, L., Morgan, R., & Pooler, J. (2014). Transition to EBT in WIC: Review of impact and examination of participant redemption patterns: Final report. Retrieved from https://altarum.org/sites/default/files/uploaded-publication-files/Altarum_Transition%20to%20WIC%20EBT_Final%20Report_071614.pdf.

² National Academies of Sciences, Engineering, and Medicine. (2017). Review of WIC food packages: Improving balance and choice: Final report. Washington, DC: The National Academies Press. DOI: https://doi.org/10.17226/23655.

There are a variety of WIC State agency policies and practices that may contribute to CVB under-redemption, including but not limited to: vendor authorization and selection policies, the forms of fruits and vegetables allowed, vendor minimum stocking requirements, and participant tools and training available. Other State and household factors may also affect redemption rates, such as geographic access to WIC vendors or household preferences for certain types of fruits and vegetables. In addition, the American Rescue Plan Act of 2021 (ARP), which was signed into law on March 11, 2021 (Pub. L. 117-2), included provisions allowing the USDA to temporarily increase the CVV/B for certain food packages through September 30, 2021. This provision increased the current monthly amounts from $9 for children and $11 for women to up to $35 monthly.³ On September 30, 2021, Congress passed Public Law 117-43 (Extending Government Funding and Delivering Emergency Assistance Act) to extend the CVB increase until December 31, 2021. This extension aligned WIC benefit levels with the National Academies of Sciences, Engineering, and Medicine (NASEM) recommendations of $24/month for children, $43/month for pregnant and postpartum participants, and $47/month for breastfeeding participants. Congress subsequently passed Public Law 117-70 and Public Law 117-103 which further extended the CVB benefit at the NASEM-recommended amounts through September 30, 2022.4 5 For FY 2023, the CVB was increased to $25 for child participants, $44 for pregnant and postpartum participants, and $49 for fully and partially breastfeeding participants. These increased CVB amounts may reduce barriers to full utilization of the benefit. The temporary CVB increase offers a unique opportunity to test whether CVB redemption rates changed after implementation and whether certain State policy and participant-level factors impacted these rate changes.

³ USDA FNS (2021). WIC Policy Memorandum #2021-3: State Agency Option to Temporarily Increase the Cash-Value Voucher/Benefit for Fruit and Vegetable Purchases. Retrieved from: https://www.fns.usda.gov/wic/policy-memorandum-2021-3.

⁴ USDA FNS (2021). WIC Policy Memorandum #2022-2: Extending the Temporary Increase in the Cash-Value Voucher/Benefit. Retrieved from: https://www.fns.usda.gov/wic/policy-memo-2022-2-extending-temporary-increase-cash-value-voucher-benefit.

⁵ USDA FNS (2022). WIC Policy Memorandum #2022-8: Monthly Cash-Value Voucher/Benefit for FY 2023 Fruit and Vegetable Purchases. Retrieved from: https://www.fns.usda.gov/wic/monthly-cash-value-voucherbenefit-2023-fruit-vegetable.

In order to identify the factors associated with CVB redemption and examine the effects of State agency policies and practices on CVB redemption rates, FNS is conducting a study in 12 States, with more in-depth data collection occurring in 8 of these States. The study will gather data from WIC State agency staff, administrative records, and WIC participants. Administrative record collection will include electronic benefit transfer (EBT) data previously collected from 12 State agencies for the WIC Food Cost Containment Practices study (OMB Number 0584-0627 WIC Food Package Costs and Cost Containment Study, Discontinued 09/30/2020) as well as EBT and certification data from 8 States for a 12-month period during which States implemented the CVB increase in 2021-2022. EBT data will be used to calculate rates in the study State agencies and, in conjunction with the policy data, will be used to assess the ways in which redemption rates vary with differences in policies and practices. Participant and State agency staff interviews in 8 of the 12 States will be used to understand the factors that are most salient to participants in making decisions about purchasing fruits and vegetables with their CVB and barriers to redemption.

Affected Public: (1) State, local, and tribal governments; (2) nonprofits; and (3) individuals/households. Identified respondent groups include the following:

1. State, local, and tribal governments: State agency staff and database administrators in eight States, local agency staff at twelve local agencies, and clinic staff at twelve clinics

2. Nonprofits: staff at four local agencies and four WIC clinics ⁶

⁶ Local agencies and clinics may be either government or nonprofit organizations. It is assumed that no contacted local agencies or clinics will refuse to participate.

3. Individuals: WIC participants in eight study States

Estimated Number of Respondents: The total estimated number of respondents is 625 (40 State and local government staff, 8 nonprofit staff, and 577 individuals). Of the 625 respondents to be contacted, 505 are expected to be responsive, and 120 are expected to be nonresponsive. The breakout follows:

1. 40 State and local government staff: Of 16 State agency staff to be contacted across 8 States, 16 are expected to be responsive; of 12 local agency staff contacted across 12 local agencies, 12 are expected to be responsive; of 12 clinic staff contacted across 12 clinics, 12 are expected to be responsive.

2. 8 nonprofit staff: Of 4 local agency staff contacted across 4 local agencies, 4 are expected to be responsive; of 4 clinic staff to be contacted across 4 clinics, 4 are expected to be responsive.

3. 577 individuals: 9 individuals are expected to participate in a pretest. Of 577 individuals to be contacted for the main study, 457 are expected to be responsive, with 120 non-responsive.

Estimated Number of Responses per Respondent: 4.01 across the entire collection. This is based on the estimated 2,505 total annual responses (2,225 responsive and 280 nonresponsive) to be made by the 625 respondents. See table 1 for the estimated number of responses per respondent for each type of respondent. The breakout follows:

1. WIC State agency staff: Eight WIC State agency staff will be asked to complete one semi-structured telephone interview each. Prior to interviews, State agency staff will receive advance communications about the study (a letter and frequently asked questions (FAQ) sheet); the same State agency staff will receive a recruitment email and take part in a recruitment call.

2. Database administrator: Database administrators from each of the eight State agencies will be asked to respond to the EBT and certification data requests.

3. WIC local agency staff (including State, local, and tribal governments and non-profits): 16 WIC local agency staff (12 from State, local, or tribal government and 4 from non-profits) will be asked to assist with coordination of WIC participant recruitment for the study. These 16 WIC local agency staff will receive advance communications about the study (a letter and FAQ sheet); the same WIC local agency staff will receive a recruitment email and take part in a recruitment call.

4. WIC clinic staff (including state, local, and tribal governments and non-profits): 16 WIC clinic staff (12 from State, local, or tribal government and 4 from non-profits) will be asked to assist with coordination of WIC participant recruitment for the study. These 16 WIC clinic staff will receive advance communications about the study (a letter and FAQ sheet); the same WIC clinic staff will receive a recruitment email and take part in a recruitment call.

5. Individuals (WIC participants): The estimated total number of responses per all of the individuals (WIC participants) in the study is 4.0. In total, nine individuals will participate in a pretest. 568 individuals will receive a study brochure; of these, 448 are expected to participate in an eligibility screener for a telephone interview. Of the 328 who are eligible to participate, 288 are expected to participate in a telephone interview and complete the consent form. Forty individuals are expected to decline participation and not complete the consent form. All 288 individuals who complete consent forms are expected to participate in the interviews and the demographic survey. A total of 104 individuals are expected to receive reminder calls about participating in a telephone interview. FNS estimates that 120 of the WIC participants will be non-responsive.

Estimated Total Annual Responses: 2,505 (2,225 annual responses for responsive participants and 280 annual responses for nonresponsive participants).

Estimated Time per Response: The estimated average response time is 0.13 hours for all respondents (0.14 hours for responsive participants and 0.05 hours for nonresponsive participants). The estimated time of response varies from 30 seconds (0.0083 hours) to 2.5 hours depending on respondent group and activity, as shown in table 1.

Estimated Total Annual Burden on Respondents: 327.83 hours (313.80 hours for responsive participants, and 14.03 hours for nonresponsive participants). See table 1 for estimated total annual burden for each type of respondent.

Table 1—Total Public Burden Hours and Respondent Costs
Respondent category | Type of respondent | Instruments and activities | Sample size | Responsive: Number of respondents | Responsive: Frequency of response | Responsive: Total annual responses | Responsive: Hours per response | Responsive: Annual burden (hours) | Nonresponsive: Number of non- respondents | Nonresponsive: Frequency of response | Nonresponsive: Total annual responses | Nonresponsive: Hours per response | Nonresponsive: Annual burden (hours) | Grand total annual burden estimate (Hours)
State, Local, and Tribal Government
State, Local, and Tribal Government | WIC State agency staff | Advance communications (letter) | 8 | 8 | 1 | 8 | 0.10 | 0.80 | 0 | 0 | 0 | 0.00 | 0.00 | 0.80
| WIC State agency staff | Advance communications (FAQ sheet) | 8 | 8 | 1 | 8 | 0.10 | 0.80 | 0 | 0 | 0 | 0.00 | 0.00 | 0.80
| WIC State agency staff | Recruitment call | 8 | 8 | 1 | 8 | 0.75 | 6.00 | 0 | 0 | 0 | 0.00 | 0.00 | 6.00
| WIC State agency staff | Reminder email | 8 | 8 | 1 | 8 | 0.05 | 0.40 | 0 | 0 | 0 | 0.00 | 0.00 | 0.40
| WIC State agency staff | Telephone interviews with up to two staff per State | 8 | 8 | 1 | 8 | 1.00 | 8.00 | 0 | 0 | 0 | 0.00 | 0.00 | 8.00
| Database administrator | EBT data | 8 | 8 | 1 | 8 | 1.50 | 12.00 | 0 | 0 | 0 | 0.00 | 0.00 | 12.00
| Database administrator | Certification data | 8 | 8 | 1 | 8 | 2.50 | 20.00 | 0 | 0 | 0 | 0.00 | 0.00 | 20.00
| WIC State agency staff subtotal |  | 16 | 16 | 4 | 56 | 0.86 | 48.00 | 0 | 0 | 0 | 0.00 | 0.00 | 48.00
| WIC local agency staff | Advance communications (letter) | 12 | 12 | 1 | 12 | 0.10 | 1.20 | 0 | 0 | 0 | 0.00 | 0.00 | 1.20
| WIC local agency staff | Advance communications (FAQ sheet) | 12 | 12 | 1 | 12 | 0.10 | 1.20 | 0 | 0 | 0 | 0.00 | 0.00 | 1.20
| WIC local agency staff | Recruitment call | 12 | 12 | 1 | 12 | 0.75 | 9.00 | 0 | 0 | 0 | 0.00 | 0.00 | 9.00
| WIC local agency staff | Reminder email | 12 | 12 | 1 | 12 | 0.05 | 0.60 | 0 | 0 | 0 | 0.00 | 0.00 | 0.60
| WIC local agency staff subtotal |  | 12 | 12 | 4 | 48 | 0.25 | 12.01 | 0 | 0 | 0 | 0.00 | 0.00 | 12.01
| Clinic staff | Advance communications (letter) | 12 | 12 | 1 | 12 | 0.10 | 1.20 | 0 | 0 | 0 | 0.00 | 0.00 | 1.20
| Clinic staff | Advance communications (FAQ sheet) | 12 | 12 | 1 | 12 | 0.10 | 1.20 | 0 | 0 | 0 | 0.00 | 0.00 | 1.20
| Clinic staff | Recruitment call | 12 | 12 | 1 | 12 | 0.75 | 9.00 | 0 | 0 | 0 | 0.00 | 0.00 | 9.00
| Clinic staff | Reminder email | 12 | 12 | 1 | 12 | 0.05 | 0.60 | 0 | 0 | 0 | 0.00 | 0.00 | 0.60
| Clinic staff subtotal |  | 12 | 12 | 4 | 48 | 0.25 | 12.01 | 0 | 0 | 0 | 0.00 | 0.00 | 12
| State and local government subtotal |  | 40 | 40 | 4 | 152 | 0.47 | 72.02 | 0 | 0 | 0 | 0.00 | 0.00 | 72
Nonprofit
Nonprofit | WIC local agency staff | Advance communications (letter) | 4 | 4 | 1 | 4 | 0.10 | 0.40 | 0 | 0 | 0 | 0.00 | 0.00 | 0.40
| WIC local agency staff | Advance communications (FAQ sheet) | 4 | 4 | 1 | 4 | 0.10 | 0.40 | 0 | 0 | 0 | 0.00 | 0.00 | 0.40
| WIC local agency staff | Recruitment call | 4 | 4 | 1 | 4 | 0.75 | 3.00 | 0 | 0 | 0 | 0.00 | 0.00 | 3.00
| WIC local agency staff | Reminder email | 4 | 4 | 1 | 4 | 0.05 | 0.20 | 0 | 0 | 0 | 0.00 | 0.00 | 0.20
| WIC local agency staff subtotal |  | 4 | 4 | 4 | 16 | 0.25 | 4.00 | 0 | 0 | 0 | 0.00 | 0.00 | 4.00
| Clinic staff | Advance communications (letter) | 4 | 4 | 1 | 4 | 0.10 | 0.40 | 0 | 0 | 0 | 0.00 | 0.00 | 0.40
| Clinic staff | Advance communications (FAQ sheet) | 4 | 4 | 1 | 4 | 0.10 | 0.40 | 0 | 0 | 0 | 0.00 | 0.00 | 0.40
| Clinic staff | Recruitment call | 4 | 4 | 1 | 4 | 0.75 | 3.00 | 0 | 0 | 0 | 0.00 | 0.00 | 3.00
| Clinic staff | Reminder email | 4 | 4 | 1 | 4 | 0.05 | 0.20 | 0 | 0 | 0 | 0.00 | 0.00 | 0.20
| Clinic staff subtotal |  | 4 | 4 | 4 | 16 | 0.25 | 4.00 | 0 | 0 | 0 | 0.00 | 0.00 | 4.00
| Nonprofit subtotal |  | 8 | 8 | 4 | 32 | 0.25 | 8.00 | 0 | 0 | 0 | 0.00 | 0.00 | 8.00
Individuals
Individuals | WIC participants | Pretest | 9 | 9 | 1 | 9 | 0.75 | 6.75 | 0 | 0 | 0 | 0.00 | 0.00 | 6.75
| WIC participants | Study brochure | 568 | 448 | 1 | 448 | 0.05 | 22.44 | 120 | 1 | 120 | 0.05 | 6.01 | 28.46
| WIC participants | Eligibility screener form | 448 | 328 | 1 | 328 | 0.05 | 16.43 | 120 | 1 | 120 | 0.05 | 6.01 | 22.44
| WIC participants | Reminder call | 104 | 104 | 1 | 104 | 0.0083 | 0.86 | 0 | 0 | 0 | 0.00 | 0.00 | 0.86
| WIC participants | Consent form | 328 | 288 | 1 | 288 | 0.03 | 9.62 | 40 | 1 | 40 | 0.05 | 2.00 | 11.62
| WIC participants | Interview protocol | 288 | 288 | 1 | 288 | 0.50 | 144.00 | 0 | 0 | 0 | 0.00 | 0.00 | 144.00
| WIC participants | Demographic survey | 288 | 288 | 1 | 288 | 0.07 | 19.24 | 0 | 0 | 0 | 0.00 | 0.00 | 19.24
| WIC participants | Thank-you note | 288 | 288 | 1 | 288 | 0.05 | 14.43 | 0 | 0 | 0 | 0.00 | 0.00 | 14.43
| Individual subtotal |  | 577 | 457 | 4.47 | 2,041 | 0.11 | 233.78 | 120 | 2.33 | 280 | 0.05 | 14.03 | 247.81
| Total |  | 625 | 505 | 4.41 | 2,225 | 0.14 | 313.80 | 120 | 2.33 | 280 | 0.05 | 14.03 | 327.83

Tameka Owens,
Assistant Administrator, Food and Nutrition Service.

[FR Doc. 2023-14655 Filed 7-11-23; 8:45 am]

BILLING CODE 3410-30-P